DEPARTMENT OF THE TREASURY

Submission for OMB Review; Comment Request

March 3, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Ave., NW. Washington, DC 20220.

DATES: Written comments should be received on or before April 8, 2009 to be assured of consideration.

Internal Revenue Service (IRS)

OMB Number: 1545-2071.

Type of Review: Extension.

Title: TE/GE Compliance Check Questionnaires.

Description: Compliance questionnaires are an invaluable tool for obtaining supplemental information to determine the compliance of specific entities without the burden for the taxpayer or the cost to the IRS of a traditional, full-scale audit. The information collected will be used to improve the quality of data available for monitoring compliance, to correct identified instances of non-compliance and to determine where additional guidance, education or enforcement resources are most needed to prevent future non-compliance.

Respondents: Not-for-profit institutions.

Estimated Total Burden Hours: 37,500 hours.

OMB Number: 1545-2120.

Type of Review: Extension.

Title: Election Involving the Repeal of the Bonding Requirement under 42(j)(6).

Description: The Internal Revenue Service is notifying taxpayers how to make the election out of the former bond requirement of 42(j)(6) mandated by the Housing Assistance Tax Act of 2008.

Respondents: Individuals or Households.

Estimated Total Burden Hours: 7,800 hours.

OMB Number: 1545-1959.

Type of Review: Extension.

Title: Contributions of Motor Vehicles, Boats, and Airplanes.

Form: 1098-C.

Description: Section 884 of the American Jobs Creation Act of 2004 (Pub. L. 108-357) added paragraph 12 to section 170(f) for contributions of used motor vehicles, boats, and airplanes. Section 170(f)(12) requires that a donee organization provide an acknowledgement to the donor of this type of property and is required to file the same information to the Internal Revenue Service. Form 1098-C may be used as the acknowledgement and it, or an acceptable substitute, must be filed with the IRS.

Respondents: Individuals or households.

Estimated Total Burden Hours: 1,500 hours.

OMB Number: 1545-1966.

Type of Review: Extension.

Title: TD 9263 (Final) Income Attributable to Domestic Production Activities.

Description: These regulations will provide guidance regarding the deduction for income attributable to domestic production activities under section 199 of the Internal Revenue Code. Section 199 was enacted by section 102 of the American Jobs Creation Act of 2004, and allows a deduction equal to 3 percent (for 2005 and 2006) of the lesser of the qualified production activities income of the taxpayer's or the taxpayer's taxable income, subject to certain limits. The deduction percentage increases to 6 percent for 2007 through 2009 and to 9 percent thereafter.

Respondents: Businesses or other for-profits.

Estimated Total Burden Hours: 9,000 hours.

OMB Number: 1545-0074.

Type of Review: Revision.

Title: U.S. Individual Income Tax Return.

Form: 8275 R, 8275, 8283, 8818, 8815, 8820, 8821, 8822, 8824, 8826, 8843, 8846, W-5SP, W-5, 8910, 8911, 8915, 8907, 1040 X, 8874, 9465 SP, SS-8, 982, 8914, 8906, 8908, 8453, 8582-CR, Schedule H (1040), Schedule J (1040), Schedule R (1040), 1040-ES NR, 8853, 8864, 673, Schedule 2 (1040A), Schedule 3 (1040A), 1128, 8878 SP, 8860, 2106, 2106-EZ, 1040 ES-OTC, 1040 A, 2210-F, 8615, 8621-A, 8621, 8689, 8693, 8697, 8801, 8828, 8829, 8832, 8833, 8834, 8835, 8845, 9465, Schedule SE (1040), 8844, 8854, 8898, Form T (Timber), Schedule C-EZ (1040), 8840, 8889, 1040 NR-EZ, 8917, W-4V, W-7, 1045, 2210, 8863, SS-4, Schedule O (8865), 8838, 8865, Schedule P (8865), 2350 SP, 8847, 8858, 8859, 8861, 8862, Schedule K-1 (8865), 8866, 8873, 8878, Schedule M (8858), 8879-SP, 8879, 8880, 8885, 8891, 8896, 8900, 8901, W-4P, W-4S, W-4SP, W-4, W-7A, W-7SP, 4868 SP, 5695, 8888, 8919, 1040, 1040 EZ, 1040 NR , 926, 970, 972, Schedule 1 (1040 A), Schedule A & B (1040), Schedule C (1040), Schedule D (1040), Schedule D-1 (1040), Schedule E (1040), Schedule EIC (1040), Schedule F (1040), 1040-V, 1310, 2120, 2350, 2439, 2441, 2555-EZ, 2555, 2848, 3115, 3468, 3520, 3800, 3903, 4029, 4070 A, 4070, 4361, 4562, 4563, 4684, 4797, 4835, 4852, 4868, 4952, 4970, 4972, 5074, 5213, 5329, 5471, Schedule J (5471), Schedule M (5471), Schedule O (5471), Schedule A (5713), Schedule B (5713), Schedule C (5713), 5713, 5754, 5884, 6198, 6251, 8332, 8379, 8396, 8582, 8586, 8606, 8594, Schedule A (8609), 8611, 8812, 8814, 8839, 8881, 8882, 8886, 8903, 1040 V OCR-ES, 1116, 4137, 4136, 4255, 6252, 6478, 6765, 8082, 6781, 5405, 1127, 8925, 8931, 8932, 1040-ES (PR).

Description: These forms and schedules are used by individuals to report their income tax liability. IRS uses the data collected on these forms and their schedules to compute tax liability and determine that the items claimed are properly allowable. This information is also used for general statistical purposes.

Respondents: Individuals or households.

Estimated Total Burden Hours: 3,703,000,000 hours.

OMB Number: 1545-1956.

Type of Review: Extension.

Title: Rev. Proc. 2005-51, Revenue Procedure regarding I.R.C. 6707A (e) and Disclosure with the SEC.

Description: This revenue procedure provides guidance to persons who are required to disclose payment of certain penalties arising from participation in reportable transactions on forms filed with the Securities and Exchange Commission.

Respondents: Businesses or other for-profits.

Estimated Total Burden Hours: 430 hours.

OMB Number: 1545-1831.

Type of Review: Extension.

Title: TD 9157 (Final) Guidance Regarding the Treatment of Certain Contingent Payment Debt Instructions with one or more Payments that are Denominated in, or Determined by Reference to, a nonfunctional currency.

Description: The IRS needs the information from the holder of certain debt instruments in order to alert the agency that the computation of interest income/expense by the holder and issuer will not be consistent. The respondents will be holders of contingent payment debt instruments which require payments to be made in or by reference to foreign currency. The respondents will probably be investment banks, however, may also include others who hold these debt instruments for investments.

Respondents: Businesses or other for-profits.

Estimated Total Burden Hours: 100 hours.

OMB Number: 1545-0387.

Type of Review: Extension.

Title: Application for Filing Information Returns Magnetically/ Electronically.

Form: 4419.

Description: Under section 6011(e)(2)(a) of the Internal Revenue Code, any person, including corporations, partnerships, individuals, estates and trusts, who is required to file 250 or more information returns must file such returns magnetically/ electronically. Payers required to file on magnetic media or electronically must complete Form 4419 to receive authorization to file.

Respondents: State, Local, and Tribal Governments.

Estimated Total Burden Hours: 6,500 hours.

Clearance Officer: Glenn P. Kirkland, Internal Revenue Service, Room 6516, 1111 Constitution Avenue, NW., Washington, DC 20224. (202) 622-3428.

OMB Reviewer: Shagufta Ahmed, Office of Management and Budget, Room 10235, New Executive Office Building, Washington, DC 20503. (202) 395-7873.

Celina Elphage,
Treasury PRA Clearance Officer.

[FR Doc. E9-4834 Filed 3-6-09; 8:45 am]

BILLING CODE 4830-01-P